DEPARTMENT OF COMMERCE

International Trade Administration

[A-533-840]

Certain Frozen Warmwater Shrimp From India: Final Results of Antidumping Duty Administrative Review; 2019-2020

AGENCY: Enforcement and Compliance, International Trade Administration, Department of Commerce.

SUMMARY: The Department of Commerce (Commerce) determines that producers and/or exporters of certain frozen warmwater shrimp (shrimp) from India made sales at less than normal value during the period of review (POR) February 1, 2019, through January 31, 2020.

DATES: Applicable November 26, 2021.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Background

This administrative review covers 154 producers and/or exporters of the subject merchandise. Commerce selected two mandatory respondents for individual examination: H.N. Indigos Private Limited (HN Indigos) and RSA Marines. The producers/exporters not selected for individual examination are listed in the “Final Results of the Review” section of this notice.

On June 25, 2021, Commerce published the Preliminary Results.¹ On August 2, 2021, we received case briefs from HN Indigos and RSA Marines. On August 9, 2021, we received rebuttal briefs from the petitioner ² and the American Shrimp Processors Association. On October 14, 2021, we postponed the final results to no later than November 19, 2021.³ For a complete discussion of the events that occurred since the Preliminary Results, see the Issues and Decision Memorandum.⁴

¹ See Preliminary Results of Antidumping Duty Administrative Review; 2019-2020, 86 FR 33658 (June 25, 2021) (Preliminary Results), and accompanying Preliminary Decision Memorandum (PDM).

² The petitioner is the Ad Hoc Shrimp Trade Action Committee.

³ See Memorandum, “Extension of Deadline for Final Results of the 2019-2020 Antidumping Duty Administrative Review,” dated October 14, 2021.

⁴ See Memorandum, “Issues and Decision Memorandum for the Final Results of the 2019-2020 Antidumping Duty Administrative Review of Certain Frozen Warmwater Shrimp from India,” dated concurrently with, and hereby adopted by, this notice (Issues and Decision Memorandum).

Scope of the Order

The merchandise subject to the order is certain frozen warmwater shrimp.⁵ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁵ For a complete description of the scope of the order, see Preliminary Results PDM at 4-5.

Analysis of Comments Received

All issues raised in the case and rebuttal briefs are listed in Appendix I to this notice and addressed in the Issues and Decision Memorandum. Interested parties can find a complete discussion of these issues and the corresponding recommendations in this public memorandum, which is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on a review of the record and comments received from interested parties regarding our Preliminary Results, we made certain changes to the preliminary weighted-average margin calculations for HN Indigos and the companies not selected for individual review.⁶

⁶ See Issues and Decision Memorandum at 2. We made no changes to the calculation of RSA Marines' preliminary weighted-average dumping margin.

Final Results of the Review

As a result of this review, we determine the following weighted-average dumping margins for the period February 1, 2019, through January 31, 2020:

⁷ This rate is based on the weighted-average of the margins calculated for the companies selected for individual review using the publicly-ranged U.S. quantities. Because we cannot apply our normal methodology of calculating a weighted-average margin due to requests to protect business proprietary information, we find this rate to be the best proxy of the actual weighted-average margin determined for the mandatory respondents. See Ball Bearings and Parts Thereof from France, Germany, Italy, Japan, and the United Kingdom: Final Results of Antidumping Duty Administrative Reviews, Final Results of Changed-Circumstances Review, and Revocation of an Order in Part, 75 FR 53661, 53663 (September 1, 2010); see also Memorandum, “Calculation of the Review-Specific Average Rate for the Final Results,” dated concurrently with this notice.

Producers/exporters | Weighted-average dumping margin (percent)
H.N. Indigos Private Limited | 10.39
RSA Marines/Royal Oceans | 4.73
Companies Not Selected for Individual Review ⁷ | 7.15

Review-Specific Rate for Companies Not Selected for Individual Review

The exporters/producers not selected for individual review are listed in Appendix II.

Disclosure of Calculations

We intend to disclose the calculations performed for HN Indigos in connection with these final results within five days of the date of publication of this notice, in accordance with 19 CFR 351.224(b).

Assessment Rates

Pursuant to section 751(a)(2)(C) of the Tariff Act of 1930, as amended (the Act), and 19 CFR 351.212(b)(1), Commerce has determined, and U.S. Customs and Border Protection (CBP) shall assess, antidumping duties on all appropriate entries of subject merchandise in accordance with the final results of this review.

Pursuant to 19 CFR 351.212(b)(1), because HN Indigos and RSA Marines reported the entered value for their U.S. sales, we calculated importer-specific ad valorem duty assessment rates based on the ratio of the total amount of antidumping duties calculated for the examined sales to the total entered value of the sales for which entered value was reported. Where the respondent's weighted-average dumping margin is zero or de minimis within the meaning of 19 CFR 351.106(c)(1), or an importer-specific rate is zero or de minimis, we will instruct CBP to liquidate the appropriate entries without regard to antidumping duties.

For the companies that were not selected for individual examination, we used, as the assessment rate, the average of the cash deposit rates assigned to HN Indigos and RSA Marines, in accordance with our practice.⁸ The final results of this review shall be the basis for the assessment of antidumping duties on entries of merchandise covered by the final results of this review and for future deposits of estimated duties, where applicable.⁹

⁸ See, e.g., Certain Frozen Warmwater Shrimp from India: Final Results of Antidumping Duty Administrative Review; 2016-2017, 83 FR 32835 (July 16, 2018).

⁹ See section 751(a)(2)(C) of the Act.

Commerce's “automatic assessment” practice will apply to entries of subject merchandise during the POR produced by HN Indigos or RSA Marines for which the reviewed companies did not know that the merchandise they sold to the intermediary (e.g., a reseller, trading company, or exporter) was destined for the United States. In such instances, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recent period; (3) if the exporter is not a firm covered in this review, a previous review, or the less-than-fair-value (LTFV) investigation, but the manufacturer is, the cash deposit rate will be the rate established for the most recent period for the manufacturer of the merchandise; and (4) the cash deposit rate for all-other manufacturers or exporters will continue to be 10.17 percent, the all-others rate established in the LTFV investigation.¹¹ These deposit requirements, when imposed, shall remain in effect until further notice.

¹¹ See Notice of Amended Final Determination of Sales at Less Than Fair Value and Antidumping Duty Order, 70 FR 5147, 5148 (February 1, 2005).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

We are issuing and publishing this notice in accordance with sections 751(a)(1) and 777(i) of the Act.

Dated: November 19, 2021.
Ryan Majerus,
Deputy Assistant Secretary for Policy and Negotiations, Performing the Non-Exclusive Functions and Duties of The Assistant Secretary for Enforcement and Compliance.

Appendix I

List of Topics Discussed in the Issues and Decision Memorandum

I. Summary

II. Background

III. Margin Calculations

IV. Discussion of the Issues

Comment 1: Result of Collapsing RSA Marines and Royal Oceans

Comment 2: Universe of Sales for HN Indigos

Comment 3: Adjustment for Warranty Expenses

V. Recommendation

Appendix II

Review-Specific Average Rate Applicable to Companies Not Selected for Individual Review

1. Abad Fisheries Private Limited

2. ADF Foods Ltd.

3. Albys Agro Private Limited

4. Al-Hassan Overseas Private Limited

5. Allana Frozen Foods Pvt. Ltd.

6. Allanasons Ltd.

7. Alps Ice & Cold Storage Private Limited

8. Amarsagar Seafoods Private Limited

9. Amulya Seafoods

10. Anantha Seafoods Private Limited

11. Anjaneya Seafoods

12. Asvini Agro Exports

13. Ayshwarya Seafood Private Limited

14. B R Traders

15. Baby Marine Eastern Exports

16. Baby Marine Exports

17. Baby Marine International

18. Baby Marine Sarass

19. Baby Marine Ventures

20. Balasore Marine Exports Private Limited

21. BB Estates & Exports Private Limited

22. Bell Exim Private Limited (Bell Foods (Marine Division))

23. Bell Exim Pvt. Ltd.

24. Bhatsons Aquatic Products

25. Bhavani Seafoods

26. Bijaya Marine Products

27. Blue Fin Frozen Foods Pvt. Ltd.

28. Blue Water Foods & Exports P. Ltd.

29. Britto Seafood Exports Pvt Ltd.

30. Canaan Marine Products

31. Capithan Exporting Co.

32. Cargomar Private Limited

33. Chakri Fisheries Private Limited

34. Chemmeens (Regd)

35. Cherukattu Industries (Marine Div)

36. Cochin Frozen Food Exports Pvt. Ltd.

37. Continental Fisheries India Pvt. Ltd.

38. Coreline Exports

39. Corlim Marine Exports Pvt. Ltd.

40. Crystal Sea Foods Private Limited

41. Delsea Exports Pvt. Ltd.

42. Devi Sea Foods Limited ¹²

¹² Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, the results of this administrative review apply to Devi only for shrimp produced in India where Devi acted as either the manufacturer or exporter (but not both).

43. Empire Industries Limited

44. Entel Food Products Private Limited

45. Esmario Export Enterprises

46. Everblue Sea Foods Private Limited

47. Febin Marine Foods

48. Fouress Food Products Private Limited

49. Frontline Exports Pvt. Ltd.

50. G A Randerian Ltd.

51. Gadre Marine Exports

52. Galaxy Maritech Exports P. Ltd.

53. Geo Aquatic Products (P) Ltd.

54. Godavari Mega Aqua Food Park Private Limited

55. Grandtrust Overseas (P) Ltd.

56. Green House Agro Products

57. GVR Exports Pvt. Ltd.

58. Hari Marine Private Limited

59. Haripriya Marine Export Pvt. Ltd.

60. HIC ABF Special Foods Pvt. Ltd.

61. Hiravati Exports Pvt. Ltd.

62. Hiravati International Pvt. Ltd. (located at Jawar Naka, Porbandar, Gujarat, 360 575, India)

63. Hiravati Marine Products Private Limited

64. HMG Industries Limited

65. Hyson Logistics and Marine Exports Private Limited

66. Indian Aquatic Products

67. Indo Aquatics

68. Indo Fisheries

69. Indo French Shellfish Company Private Limited

70. International Freezefish Exports

71. Jinny Marine Traders

72. Jiya Packagings

73. Karunya Marine Exports Private Limited

74. Kaushalya Aqua Marine Products Exports Pvt. Ltd.

75. Kay Exports

76. Kings Marine Products

77. Koluthara Exports Ltd.

78. Landauer Ltd.

79. Libran Cold Storages (P) Ltd.

80. Mangala Sea Products

81. Marine Harvest India

82. Megaa Moda Pvt. Ltd.

83. Milsha Agro Exports Private Limited

84. Milsha Sea Products

85. Minaxi Fisheries Private Limited

86. Mindhola Foods LLP

87. MMC Exports Limited

88. MTR Foods

89. N.K. Marine Exports LLP

90. Naik Frozen Foods

91. Naik Oceanic Exports Pvt. Ltd./Rafiq Naik Exports Pvt. Ltd.

92. Naik Seafoods Ltd.

93. Nekkanti Mega Food Park Private Limited

94. Nine Up Frozen Foods

95. Nutrient Marine Foods Limited

96. Oceanic Edibles International Limited

97. Paragon Sea Foods Pvt. Ltd.

98. Paramount Seafoods

99. Parayil Food Products Pvt., Ltd.

100. Pesca Marine Products Pvt., Ltd.

101. Pijikay International Exports P Ltd.

102. Pravesh Seafood Private Limited

103. Premier Exports International

104. Premier Marine Foods

105. Premier Seafoods Exim (P) Ltd.

106. RDR Exports

107. R F Exports

108. RF Exports Private Limited

109. R V R Marine Products Limited

110. Raju Exports

111. Raunaq Ice & Cold Storage

112. Royal Imports and Exports

113. Rupsha Fish Private Limited

114. S Chanchala Combines Private Limited

115. Sagar Samrat Seafoods

116. Sahada Exports

117. Salet Seafoods Private Limited

118. Samaki Exports Private Limited

119. Sasoondock Matsyodyog Sahakari Society Ltd.

120. Seagold Overseas Pvt. Ltd.

121. Shimpo Exports Private Limited

122. Shimpo Seafoods Private Limited

123. Shiva Frozen Food Exp. Pvt. Ltd.

124. Shroff Processed Food & Cold Storage P Ltd.

125. Silver Seafood

126. Sita Marine Exports

127. Sonia Fisheries Private Limited

128. Sri Sakkthi Cold Storage

129. SSF Ltd.

130. Star Agro Marine Exports Private Limited

131. Star Organic Foods Private Limited

132. Stellar Marine Foods Private Limited

133. Sterling Foods

134. Sun Agro Exim

135. Supran Exim Private Limited

136. Suvarna Rekha Exports Private Limited

137. Suvarna Rekha Marines P Ltd.

138. TBR Exports Pvt Ltd.

139. Teekay Marine P. Ltd.

140. The Waterbase Limited

141. Triveni Fisheries P Ltd.

142. U & Company Marine Exports

143. Ulka Sea Foods Private Limited

144. Uniroyal Marine Exports Ltd.

145. Unitriveni Overseas

146. Vasai Frozen Food Co.

147. Veronica Marine Exports Private Limited

148. Victoria Marine & Agro Exports Ltd.

149. Vinner Marine

150. Vitality Aquaculture Pvt. Ltd.

151. VRC Marine Foods LLP

152. Zeal Aqua Limited

[FR Doc. 2021-25771 Filed 11-24-21; 8:45 am]

BILLING CODE 3510-DS-P